INTERNATIONAL TRADE COMMISSION

[Investigation Nos. 701-TA-598 and 731-TA-1408 and 1410 (Review)]

Rubber Bands From China and Thailand; Notice of Termination of Five-Year Reviews

AGENCY: International Trade Commission.

ACTION: Notice.

SUMMARY: The Commission instituted the subject five-year reviews on January 2, 2024, to determine whether revocation of the countervailing duty order on rubber bands from China and the antidumping duty orders on rubber bands from China and Thailand would be likely to lead to continuation or recurrence of material injury. On March 21, 2024, the Department of Commerce published notice in the Federal Register that it was revoking the orders because no domestic interested party filed a timely notice of intent to participate. The effective date of the revocation of the antidumping and countervailing duty orders on imports of rubber bands from China is February 19, 2024. The effective date of the revocation of the antidumping duty order on imports of rubber bands from Thailand is April 26, 2024. Accordingly, the subject reviews are terminated.

DATES: Effective dates:

February 19, 2024: Rubber Bands from China (Investigation Nos. 701-TA-598 and 731-TA-1408 (First Review))

April 26, 2024: Rubber Bands from Thailand (Investigation No. 731-TA-1410 (First Review))

FOR FURTHER INFORMATION CONTACT: Alec Resch (202-708-1448), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

Authority: These reviews are being terminated under authority of title VII of the Tariff Act of 1930 and pursuant to section 751(c) of the Tariff Act of 1930 (19 U.S.C. 1675(c)). This notice is published pursuant to section 207.69 of the Commission's rules (19 CFR 207.69).

By order of the Commission.
Issued: April 1, 2024.
Lisa Barton,
Secretary to the Commission.

[FR Doc. 2024-07167 Filed 4-3-24; 8:45 am]

BILLING CODE 7020-02-P